DEPARTMENT OF DEFENSE

Department of the Army

Record of Decision (ROD) for Conversion of the 3rd Armored Cavalry Regiment (3rd ACR) to a Stryker Brigade Combat Team (SBCT) at Fort Hood, TX

AGENCY: Department of the Army, DoD.

ACTION: Notice of Availability (NOA).

SUMMARY: The Department of the Army announces a ROD for conversion of the 3rd ACR to an SBCT at Fort Hood and discusses the environmental impacts of this decision. After conversion, the 3rd ACR will provide the Army with a force structure that has the flexibility to respond better to threats in an unpredictable global security environment. The Army's strategic estimate remains that its force requirements will best be met by a robust multiweight force, composed of a mix of Infantry BCTs and Heavy Armor BCTs augmented with the protection and versatility of an additional SBCT. The 3rd ACR at Fort Hood is being selected because the unit will have maximum time to convert and train with new equipment prior to redeploying. In addition, Fort Hood is an installation capable of providing fully modernized training infrastructure, as well as many of the existing garrison support facilities required for an SBCT, and has adequate maneuver space to accommodate SBCT training. The 3rd ACR will begin converting in 2012 and will be complete in Fiscal Year 2014. With this conversion, the Army will have nine SBCTs (eight Active Component and one Reserve Component).

ADDRESSES: A request for a copy of the ROD can be sent to the Public Affairs Office, U.S. Army Environmental Command, Building E4460, Attention: IMAE-PA, 5179 Hoadley Road, Aberdeen Proving Ground, MD 21010-5401.

FOR FURTHER INFORMATION CONTACT: Lieutenant Colonel David Patterson, Office of the Chief of Public Affairs, Media Relations Division, at (703) 697-7592.

SUPPLEMENTARY INFORMATION: In 2007, the Department of the Army prepared a Programmatic Environmental Impact Statement (PEIS) as part of the Grow the Army initiative that evaluated the potential environmental and socioeconomic effects associated with a range of stationing alternatives for Army growth and realignment. The Final PEIS provided the Army senior leadership with an assessment of environmental and socioeconomic impacts that would be associated with the stationing of the different types of Army BCTs and combat support units to include SBCTs.

This ROD determines that National Environmental Policy Act supplemental documentation is not required because there are no substantial changes or new circumstances in the proposed action causing any significant new environmental concerns. The adjustments to stationing decisions result in small proportional gains to the Soldier populations of Fort Hood and are not anticipated to cause any new environmental impacts that are not already addressed in the 2007 EIS.

A copy of the updated ROD and Final PEIS are available at http://aec.army.mil/usaec/nepa/topics00.html.

Dated: August 26, 2010.
Addison D. Davis, IV,
Deputy Assistant Secretary of the Army (Environment, Safety and Occupational Health).

[FR Doc. 2010-22681 Filed 9-9-10; 8:45 am]

BILLING CODE 3710-08-P